Memorandum of January 20, 2025

Memorandum To Resolve the Backlog of Security Clearances for Executive Office of the President Personnel

Memorandum to the White House Counsel

The Executive Office of the President requires qualified and trusted personnel to execute its mandate on behalf of the American people. There is a backlog created by the Biden Administration in the processing of security clearances of individuals hired to work in the Executive Office of the President. Because of this backlog and the bureaucratic process and broken security clearance process, individuals who have not timely received the appropriate clearances are ineligible for access to the White House complex, infrastructure, and technology and are therefore unable to perform the duties for which they were hired. This is unacceptable.

Therefore, by the authority vested in me as President by the Constitution and the laws of the United States of America, I hereby order:

1. The White House Counsel to provide the White House Security Office and Acting Chief Security Officer with a list of personnel that are hereby immediately granted interim Top Secret/Sensitive Compartmented Information (TS/SCI) security clearances for a period not to exceed six months; and

2. That these individuals shall be immediately granted access to the facilities and technology necessary to perform the duties of the office to which they have been hired; and

3. The White House Counsel, as my designee, may supplement this list as necessary; and

4. The White House Counsel, as my designee, shall have the authority to revoke the interim clearance of any individual as necessary.

This memorandum is not intended to, and does not, create any right or benefit, substantive or procedural, enforceable at law or in equity by any party against the United States, its departments, agencies, or entities, its officers, employees, or agents, or any other person.

THE WHITE HOUSE,

Washington, January 20, 2025

[FR Doc. 2025-02033

Filed 1-29-25; 8:45 am]

Billing code 3395-F4-P